DEPARTMENT OF THE INTERIOR

National Park Service

[NPS-WASO-NAGPRA-NPS0037441; PPWOCRADN0-PCU00RP14.R50000]

Notice of Inventory Completion: Office of the State Archaeologist Bioarchaeology Program, University of Iowa, Iowa City, IA

AGENCY: National Park Service, Interior.

ACTION: Notice.

SUMMARY: In accordance with the Native American Graves Protection and Repatriation Act (NAGPRA), the Office of the State Archaeologist Bioarchaeology Program (OSA-BP) has completed an inventory of human remains and associated funerary objects and has determined that there is a cultural affiliation between the human remains and associated funerary objects and Indian Tribes or Native Hawaiian organizations in this notice. The human remains and associated funerary objects were removed from Buena Vista, Cherokee, Mills, O'Brien, Plymouth, and Polk Counties, IA.

DATES: Repatriation of the human remains and associated funerary objects in this notice may occur on or after March 27, 2024.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the OSA-BP. The National Park Service is not responsible for the determinations in this notice. Additional information on the determinations in this notice, including the results of consultation, can be found in the inventory or related records held by the OSA-BP.

Description

In 2019, human remains representing, at minimum, six individuals were removed from the Joy Creek Major site (13PM7) in Plymouth County, IA. Flood-related breaches in a levee near the site caused the erosion of a mortuary feature and the scattering of human remains across an agricultural field. The human remains were collected by personnel from the Sanford Museum in Cherokee, IA, and the OSA-BP. An older adolescent or young adult male, a middle to older adult possible male, and three adults of unknown age and sex are represented by the human remains. A child 10-to-12 years old is represented by a naturally-shed deciduous tooth (BP3443). No associated funerary objects are present.

In 1959 and 1963, human remains representing, at minimum, three individuals were removed from the Wittrock Site (13OB4) in O'Brien County, IA. Archeological excavations of this Mill Creek village were conducted by the University of Iowa in 1959 and 1965, and by the University of Wisconsin-Madison in 1963. Human skeletal remains identified during the 1959 and 1965 excavations were previously reported and reburied in 1978. In 2010, a human patella from the 1963 excavation of 13OB4 was transferred from the Department of Anthropology at the University of Wisconsin-Madison to the Iowa Office of the State Archaeologist (OSA). Two teeth from the 1963 excavation were transferred from the Sanford Museum in Cherokee, Iowa, to the OSA-BP in 2014. Additional human elements from the 1959 excavation were identified in the OSA Repository in 2014-2015 and transferred to the OSA-BP (Burial Projects 3017, 3068, 3095). No associated funerary objects are present.

In 1955, human remains representing, at minimum, one individual was removed from the Phipps Site (13CK21) in Cherokee County, IA. Archeological excavations of this Mill Creek village were conducted by Reynold Ruppé and sponsored by the Northwest Chapter of the Iowa Archaeological Society, the Sanford Museum, and the University of Iowa from 1952-1956. Faunal remains from the 1955 field season were housed at the Sanford Museum before being transferred to the OSA-BP in 2018. During processing of these faunal remains, a single human tooth was identified and transferred to the OSA-BP. The tooth, bearing the catalog number CK4042, represents an older adult (Burial Project 3394). No associated funerary objects are present.

At an unknown date, human remains representing, at minimum, four individuals were removed from the Phipps Site (13CK21), the Bultman Site (13BV2) and site 13CK1. An archeologist from the Sanford Museum in Cherokee County, Iowa, noted the human remains on display at Jim's History Barn in Peterson, IA. The human remains were confiscated by the OSA-BP in 2019. At a minimum, four individuals, one juvenile and three adults, are represented by a phalanx, three isolated teeth and a partial mandible (Burial Project 3478). No associated funerary objects are present.

In 1969, human remains representing, at minimum, one individual was removed from the Broken Kettle West Site (13PM25) in Plymouth County, IA. The site was excavated in 1969 by the University of Nebraska. At an unknown date, these human remains were transferred to the OSA and rediscovered in the OSA repository in 2019 (Burial Project 3482). Two mandibular fragments represent one young adult (20-35 years old) of indeterminate sex. No associated funerary objects are present.

In 1966, human remains representing, at minimum, four individuals were removed from sites 13PM32, 13PM33, and possibly 13PM25 in Plymouth County, IA. The original location was indicated as being on the Blue Diamond Ranch, site numbers 13PM32 and 13PM33, where the University of Wisconsin excavated in 1966. At an unknown date cremated human remains from these sites were transferred to the University of Missouri. A bag with the remains was also labeled 13PM25. In January of 2023, the American Archaeology Division of the University of Missouri transferred the human remains to the OSA-BP (Burial Project 3747). Fragmentary cremated human remains represent four adults of indeterminate age and sex. The one associated funerary object is one lot of charcoal.

In 1963, human remains representing, at minimum, 26 individuals were removed from site 13PK38, also called the West Des Moines Burial Site, in Polk County, IA. The burial site was impacted by construction in 1963 and subsequently excavated by the State Department of History and Archives, now the State Historical Society of Iowa. Human remains excavated were transferred to the OSA in 1983 and then temporarily loaned to Doug Owsley while at Louisiana State University in 1985. Owsley then took the collection with him upon his transition to the Smithsonian Institution's National Museum of Natural History. The human remains were transferred back to the OSA-BP in November of 2021 (Burial Project 3641). Mostly complete but commingled human remains represent at least 21 adult individuals, two infants, and three juveniles ranging in age from 2-17 years old. No associated funerary objects are present.

In 1971 and 1972, human remains representing, at minimum, one individual were removed from 13ML130 in Mills County, IA. Excavations were conducted at 13ML130 in 1971 and 1972 in a series of salvage archeology efforts in association with the Iowa Highway Program. Archeological material from the excavation was housed at the OSA repository. In 2014, a partial mandible and an isolated tooth were transferred to the OSA-BP after being discovered in the faunal material from 13ML130. The human remains represent one individual of indeterminate age and sex (BP 3066). No associated funerary objects are present.

In 1971 and 1972, human remains representing, at minimum, one individual were removed from 13ML135 in Mills County, IA. Excavations were conducted at 13ML135 in 1971 and 1972 in a series of salvage archeology efforts in association with the Iowa Highway Program. Archeological material from the excavation was housed at the OSA repository. In 2014, a foot phalanx was transferred to the OSA-BP after being discovered in the faunal material from 13ML135. Thin sections of human long bones were also found among the artifacts. The human remains represent one individual of indeterminate age and sex (BP 3067). The 90 associated funerary objects are 17 potsherds, three rim sherds, one bone fish hook, one knife fragment, one celt tip, three worked flakes, 10 unworked flakes, 26 faunal bone fragments, two charcoal samples, one nutshell, one wood sample, one piece of daub, five pieces of limestone, and 18 unmodified rocks.

In 1971 and 1972 human remains representing, at minimum, one individual were removed from 13ML139 in Mills County, IA, during a series of salvage archeology efforts in association with the Iowa Highway Program. Archeological material from the excavation were subsequently housed in the OSA repository. In 2017, a deciduous tooth crown was transferred to the OSA-BP after being discovered in the faunal material from 13ML139. The human remains represent one juvenile individual 10.5-11.5 years old (BP 3302). No associated funerary objects are present.

In 1969 and 1970, human remains representing, at minimum, two individuals were removed from a Nebraska Phase earthlodge site (13ML124) in Mills County, IA. The human remains were excavated from the site between 1969 and 1970 and were stored in the OSA repository. In 2003, the human remains were discovered in the OSA repository (OSA accession #312) and transferred to the OSA-BP. An older juvenile and a young adult are represented by a femur and a single tooth (Burial Project 1724). No associated funerary objects are present.

In 1995, human remains representing, at minimum, one individual were removed from site 13ML175 in Mills County, IA. The human remains were excavated from 13ML175 during a Phase III archeological project conducted by the OSA in advance of road construction. The human remains were transferred to the OSA-BP. A child between the ages of 10 and 12 years is represented by the naturally shed deciduous tooth (Burial Project 849). No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, biological information, geographical information, historical information, linguistics, and oral tradition.

Determinations

Pursuant to NAGPRA and its implementing regulations, and after consultation with the appropriate Indian Tribes and Native Hawaiian organizations, the OSA-BP has determined that:

• The human remains described in this notice represent the physical remains of 51 individuals of Native American ancestry.

• The 91 objects described in this notice are reasonably believed to have been placed with or near individual human remains at the time of death or later as part of the death rite or ceremony.

• There is a relationship of shared group identity that can be reasonably traced between the human remains and associated funerary objects described in this notice and the Pawnee Nation of Oklahoma and the Three Affiliated Tribes of the Fort Berthold Reservation, North Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2024. If competing requests for repatriation are received, the Office of the State Archaeologist Bioarchaeology Program must determine the most appropriate requestor prior to repatriation. Requests for joint repatriation of the human remains and associated funerary objects are considered a single request and not competing requests. The Office of the State Archaeologist Bioarchaeology Program is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 16, 2024.
Melanie O'Brien,
Manager, National NAGPRA Program.

[FR Doc. 2024-03795 Filed 2-23-24; 8:45 am]

BILLING CODE 4312-52-P